DEPARTMENT OF COMMERCE

International Trade Administration

Secretarial Business Development Mission to China, April 21-25, 2002

AGENCY: International Trade Administration, Department of Commerce.

ACTION: Notice to announce Secretary Evans' business development mission to China during April 21-25, 2002.

SUMMARY: Secretary of Commerce Donald L. Evans will lead a senior-level business development mission to Beijing and Shanghai, China, on April 21-25, 2002, in conjunction with the 14th session of the U.S.-China Joint Commission on Commerce and Trade (JCCT) to be held in Beijing the week of April 21, 2002. The focus of the mission will be to help U.S. businesses explore trade and investment opportunities resulting from China's accession to the World Trade Organization (WTO) and related economic changes. The delegation will include approximately 15 U.S.-based senior executives of small, medium and large U.S. firms representing, but not limited to, the following key growth sectors: information technology, telecommunications, clean energy and environmental technology, medical products, and construction equipment and services.

DATES: Applications should be submitted to the Office of Business Liaison by March 15, 2002. Applications received after that date will be considered only if space and scheduling constraints permit.

CONTACT: Office of Business Liaison; Room 5062; Department of Commerce; Washington, D.C. 20230; Tel: (202) 482-1360; Fax: (202) 482-4054

SUPPLEMENTARY INFORMATION:

Secretarial Business Development Mission to China

April 21-25, 2002.

Mission Statement

I. Description of the Mission

Secretary of Commerce Donald L. Evans will lead a senior-level business development mission to Beijing and Shanghai, China, on April 21-25, 2002, in conjunction with the 14th session of the U.S.-China Joint Commission on Commerce and Trade (JCCT) to be held in Beijing the week of April 21, 2002. The focus of the mission will be to help U.S. businesses explore trade and investment opportunities resulting from China's accession to the World Trade Organization (WTO) and related economic changes. The delegation will include approximately 15 U.S.-based senior executives of small, medium and large U.S. firms representing, but not limited to, the following key growth sectors: information technology, telecommunications, clean energy and environmental technology, medical products, and construction equipment and services.

The business development mission will highlight the expanding U.S.-China economic and trade relationship as well as reaffirm U.S. Government support of China's economic reforms and free market growth resulting from China's WTO accession.

II. Commercial Setting for the Mission

China is the world's fifth largest trading entity after the United States, the European Union, Japan, and Canada. Chinese officials in mid-January of 2002 announced that the economy grew 7.3 percent in 2001, while direct foreign investment last year reached a record $46.84 billion. In great part due to strong increases in U.S. exports to China, bilateral trade was over $5 billion higher during the first eleven months of 2001 than in 2000. U.S. merchandise exports to China are expected to have approached $20 billion in 2001, an increase of roughly 20 percent over 2000.

China's accession to the WTO is expected to increase U.S.-China trade. New opportunities for U.S. exporters have been created, while a more predictable environment for trade and investment can also be expected. As part of its WTO accession agreement, China is committed to begin a phased opening of its large telecommunications services markets to foreign participation. In addition, increasing demand for computers and other high technology products and services is creating new opportunities for U.S. companies in the information technology (IT) market. China's market for IT hardware, software, and services is expected to grow to $50 billion by 2005 from over $21 billion in 2001. China's WTO commitments also are anticipated to open important new business opportunities for companies in China's medical and healthcare products sector.

China's commitment to environmental protection as a national priority is driving demand for clean energy and other environmental technologies. Clean coal technology, air and water resource management and monitoring, and pollution prevention and control equipment represent several promising areas within these new growth markets. Substantial new demand for construction of housing and other infrastructure projects is also expected in coming years, particularly in light of the upcoming 2008 Summer Olympic Games in Beijing. The importance of the Olympics for business opportunities over the next several years will resonate throughout multiple sectors of the Chinese market.

III. Goals for the Mission

The mission aims to further both U.S. commercial policy objectives and advance specific business interests. The mission will:

• Assist U.S. companies to pursue export and other new business opportunities in China by introducing them to key host government decision-making officials and to potential business partners;

• Assist new-to-market firms to gain access to the Chinese market and to promote new business for U.S. companies already operating in China's changing market; and

• Enhance U.S.-China government-industry dialogue.

IV. Scenario for the Mission

The Business Development Mission will provide participants with exposure to high-level contacts and access to the Chinese market. American Embassy officials and local U.S. businesses will provide a detailed briefing on the economic, commercial and political climate, and current business opportunities. Meetings will be arranged with appropriate government ministers and other senior government officials. In addition, private meetings will be scheduled with potential business partners. Representational events will also be organized to provide mission participants with opportunities to meet China's business and government representatives as well as U.S. business people living and working in China.

Under JCCT auspices, Secretary Evans will meet with his trade counterparts and other senior government officials to encourage market reforms beneficial to the U.S. private sector and discuss various issues of interest and concern. The Secretary will also meet with resident American business representatives.

The Department of Commerce's International Trade Administration will provide logistical support for these activities.

V. Criteria for Participant Selection

The recruitment and selection of private sector participants for this mission will be conducted according to the “Statement of Policy Governing Department of Commerce-Overseas Trade Missions” established in March 1997. Promotion and recruitment will include, but not be limited to, posting on appropriate Departmental home pages, notification in the Federal Register, and through distribution of the trade mission statement and further information to national and other trade associations and trade publications. Approximately 15 companies will be selected for the mission. Companies will be selected according to the criteria set out below.

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Companies will be selected for participation in the mission on the basis of:

• Consistency of company's goals with the scope and desired outcome of the mission as described herein;

• Relevance of a company's business and product line to the identified growth sectors;

• Seniority of the representative of the designated company;

• Past, present, or prospective international business activity;

• Diversity of company size, type, location, demographics, and traditional under-representation in business.

An applicant's partisan, political activities (including political contributions) are irrelevant to the selection process.

VI. Time Frame for Applications

Applications for the China Business Development mission will be made available on or about February 22, 2002. The fee to participate in this mission has not yet been determined, but will be approximately $6,000-$8,000. The fees will not cover travel or lodging expenses, which will be the responsibility of each participant. For additional information on the trade mission or to obtain an application, contact the Department of Commerce Office of Business Liaison at 202-482-1360. Applications should be submitted to the Office of Business Liaison by March 15, 2002, in order to ensure sufficient time to obtain in-country appointments for applicants selected to participate in the mission. Applications received after that date will be considered only if space and scheduling constraints permit. Contact: Office of Business Liaison, Room 5062, Department of Commerce, Washington, D.C. 20230, Tel: (202) 482-1360, Fax: (202) 482-4054, Mission Web Site: http://www.doc.gov/chinatrademission.

Dated: February 22, 2002.
Linda M. Conlin,
Assistant Secretary for Trade Development.

[FR Doc. 02-4670 Filed 2-26-02; 8:45 am]

BILLING CODE 3510-DR-P